DEPARTMENT OF JUSTICE

Immigration and Naturalization Service

[INS No. 2114-01; AG Order No. 2420-2001]

RIN 1115-AE26

Extension and Redesignation of Angola Under Temporary Protected Status Program

AGENCY: Immigration and Naturalization Service, Justice.

ACTION: Notice.

SUMMARY: On March 29, 2000, the Attorney General designated Angola under the Temporary Protected Status (TPS) program for a 12-month period that expires on March 29, 2001. This initial designation allowed eligible nationals of Angola (and aliens having no nationality who last habitually resided in Angola) who had continuously resided in the United States since that date to apply for TPS. This notice extends the TPS designation for Angola for another 12-month period (until March 29, 2002), and sets forth the procedures by which nationals of Angola (and aliens having no nationality who last habitually resided in Angola) who previously registered for TPS may reregister for the TPS program. This notice also redesignates Angola under the TPS program, thereby expanding TPS eligibility to include nationals of Angola (and aliens having no nationality who last habitually resided in Angola) who, among other requirements described below, have been “continuously physically present in the United States” and who have “continuously resided in the United States” since April 5, 2001.

EFFECTIVE DATES:

Extension of Designation and Reregistration

The extension of Angola's TPS designation is effective March 29, 2001, and will remain in effect until March 29, 2002. Nationals of Angola (and aliens having no nationality who last habitually resided in Angola) who are currently registered under the TPS program must reregister during the 30-day period from April 5, 2001 until May 7, 2001.

Redesignation

The redesignation of Angola under the TPS program is effective April 5, 2001, and will remain in effect until March 29, 2002. The registration period for TPS under the redesignation begins on April 5, 2001 and will remain in effect until March 29, 2002.

FOR FURTHER INFORMATION CONTACT: Rebecca Peters, Program Analyst, Immigration and Naturalization Service, 425 I Street, NW., Room 3040, Washington, DC 20536, telephone (202) 514-4754.

SUPPLEMENTARY INFORMATION:

What Is the Statutory Authority for the Attorney General To Extend Angola's TPS Designation Under the TPS Program?

Section 244(b)(3)(A) of the Immigration and Nationality Act (the Act) states that at least 60 days before the end of a designation, or any extension thereof, the Attorney General must review conditions in the foreign state for which the designation is in effect. 8 U.S.C. 1254a(b)(3)(A). If the Attorney General does not determine under this section that the foreign state no longer meets the conditions for redesignation, the period of designation is automatically extended for 6 months pursuant to section 244(b)(3)(C) of the Act. 8 U.S.C. 1254a(b)(3)(C). The period of designation may, however, be extended to 12 or 18 months at the Attorney General's discretion. 8 U.S.C. 1254a(b)(3)(C). Such an extension makes TPS available only to persons who have been continuously physically present in, and who have continuously resided in, the United States from the effective date of the initial designation, in this case, since March 29, 2000.

What Is the Statutory Authority for the Attorney General To Redesignate Angola for TPS?

Section 244 of the Act implicitly authorizes the Attorney General to redesignate a foreign state (or any part of such foreign state) under the TPS program. Whereas extension of an existing TPS designation extends benefits only to those who previously registered for TPS under the earlier designation, redesignation broadens the potential class of TPS beneficiaries to include both those who failed to register during the earlier designation period, as well as those who arrived in the United States after the effective date of the earlier designation but on or before the effective date of the redesignation, if such aliens are otherwise admissible and eligible for TPS. 8 U.S.C. 1254a(c)(1)(A).

Why Did the Attorney General Decide To Both Extend and Redesignate Angola Under the TPS Program?

On March 29, 2000, the Attorney General designated Angola under the TPS program. Since that time, the Attorney General and the Department of State have continuously examined conditions in Angola. A recent Department of State report on conditions in Angola. A recent Department of State report on conditions in Angola found that, “Fighting between UNITA [the National Union for Total Independence of Angola] and Angolan Government forces [continues and is] widespread throughout much of the country.” “Hundreds of thousands of Angolans remain displaced along the international boundaries in the east and south of the country,“ and “[r]efugees continue to arrive in Namibia, Zamibia, and the Democratic Republic of Congo (DRC).” The memorandum further states that “[f]ighting [is] expected to continue well into the next year” and “[t]he situation in Angola remains unsafe for return” of nationals, who “would be at risk of becoming casualties.” “The Government has regained control of many provincial capitals over the past year, but does not effectively control many rural areas.” While the “warring parties have repeatedly subjected the civilian population to forced displacements and acts of violence,” the cities remain overcrowded, vitamin deficiency-induced illnesses and malnutrition flourish alongside horrific water and sanitation conditions creating an environment for disease and epidemics such as polio and meningitis.

Based on these and other findings, the Attorney General has determined that conditions in Angola warrant both the extension and redesignation of Angola under the TPS program. This order will extend the availability of TPS for those Angolans who registered under the initial designation of TPS, and will also open the program to both those who failed to register during the initial designation period and those who arrived in the United States after the effective date of the earlier designation, but on or before the effective date of redesignation. 8 U.S.C. 1254a(c)(1)(A).

If I Currently Have TPS Through the Angola TPS Program, Do I Still Reregister for TPS?

Yes. If you were granted TPS based on the initial designation of Angola, your status [will] expire[d] on March 29, 2001. Accordingly, you must register for TPS in order to maintain your status through March 29, 2002. See the reregistration instructions below.

If I Am Currently Registered for TPS, How Do I Reregister for an Extension?

All persons previously granted TPS under the Angola program who wish to maintain such status must apply for an extension by filing (1) a Form I-821, without the $50 filing fee, (2) a form I-765, Application for Employment Authorization, and (3) two identification photographs (1½ inches x 1½ inches). See Chart 1 below to determine whether you must submit the $100 filing fee with Form I-765. Applicants for an extension of TPS benefits do not need to be refingerprinted and thus need not pay the $25 fingerprint fee.

Submit the completed forms and applicable fee, if any, to the Service district office having jurisdiction over your place of residence during the 30-day registration period that begins April 5, 2001 and ends (inclusive of such end date).

If you fail to reregister during the 30-day reregistration period, you may apply for TPS under the redesignation, as described in the section below.

Chart 1
If | Then
You are a national of Angola (or any person having no nationality who last habitually resided in Angola) and are applying for employment authorization through March 29, 2002 | You must complete and file: (1) Form I-765, Application for Employment Authorization with the $100 filing fee.
You already have employment authorization or do not require employment authorization | You must complete and file: (1) Form I-765 with no filing fee.
You are a national of Angola (or any person having no nationality who last habitually resided in Angola) applying for employment authorization and are requesting a fee waiver | You must complete and file: (1) Fee waiver request and affidavit (and any other information) in accordance with 8 CFR 244.20, and (2) Form I-765 with no fee.

If I Am Not Currently Registered for TPS, How Do I Register Under the Redesignation?

Applicants who are not currently registered for TPS may register under the redesignation by submitting:

• An Application for Temporary Protected Status, Form I-821 with the $50 processing fee or a request for a fee waiver;

• An Application for Employment Authorization, Form I-765;

• Two identification photographs (1½ x 1½ inches);

• Supporting evidence, as provided in 8 CFR 244.9 (describing evidence necessary to establish eligibility for TPS benefits); and

• For every applicant who is 14 years of age or older, a twenty-five dollar ($25) fingerprint fee.

8 CFR 244.6. While a complete application must include the fingerprint fee for every applicant who is 14 years of age or older, applicants should not submit a completed fingerprint card (FD-258, Applicant Card) with the application package. The application will be accepted without the fingerprint card attached. After the Service receives the application, the Service will mail an appointment letter with instructions to appear for fingerprinting at a Service-authorized site. See Chart 2 below to determine what fees must be submitted with the application package and to obtain information on requesting (a) fee waiver(s).

Submit the completed forms and applicable fees to the Service district office having jurisdiction over your place of residence during the registration period that begins April 5, 2001 and ends March 29, 2002 (inclusive of such end date).

Chart 2
If | Then
You are a national of Angola (or a person having no nationality who last habitually resided in Angola) and are applying for TPS and employment authorization through March 29, 2002 | You must complete and file: (1) Form I-821, Application for Temporary Protected Status, with fee ($50), (2) Form I-765, Application for Employment Authorization, with fee ($100), and (3) Fingerprint fee ($25).
You already have employment authorization or do not require employment authorization | You must complete and file: (1) Form I-821, with fee ($50), (2) Form I-765, with no fee, and (3) Fingerprint fee ($25).
You are applying for TPS and employment authorization and are requesting a fee waiver for the Form I-821 fee ($50) and Form I-765 fee ($100) | You must complete and file: (1) Fee waiver request and affidavit (and any other information) in accordance with 8 CFR 244.20, (2) Form I-821, with no fee, (3) Form I-765, with no fee, and (4) Fingerprint fee ($25).

What Are the Requirements for Nationals of Angola To Demonstrate That They Have Been “Continuously Physically Present” and Have “Continuously Resided” in the United States?

All applicants for TPS must demonstrate that they have been “continuously physically present,” and have “continuously resided,” in the United States since April 5, 2001. “Continuously physically present” means actual physical presence in the United States for the entire period specified. An applicant shall not be considered to have failed to maintain continuous physical presence in the United States by virtue of “brief, casual, and innocent absences,” as the phrase is defined in 8 CFR 244.1. “Continuously resided” means residing in the United States for the entire period specified. An applicant will not be considered to have failed to maintain continuous residence in the United States by reason of a brief, casual, and innocent absence or due merely to a brief temporary trip abroad required by emergency or extenuating circumstances outside the control of the applicant.

For new applicants who seek to register for the first time under the redesignation of Angola for TPS, 8 CFR 244.9 provides a non-exhaustive list of documents with which applicants may demonstrate their identity, nationality, and residency.

For those individuals who are previously registered for TPS and who seek to reregister under the extension of TPS for Angola, completing the block on Form I-821 attesting to the continued maintenance of the conditions of eligibility will generally preclude the need for supporting documents or evidence. The Service, however, reserves the right to request additional information and/or documentation on a case-by-case basis.

Notice of Extension of Designation and Redesignation of Angola Under the TPS Program

By the authority vested in me as Attorney General under section 244 of the Act, and as required by sections 244(b)(3)(A) and (C), and 244(b)(1) of the Act, I have consulted with the appropriate government agencies concerning the redesignation of Angola under the TPS program and the extension of that country's current TPS designation. From these consultations, I find the following:

(1) There exists an ongoing armed conflict in Angola and, due to such conflict, returning Angolan nationals (and aliens having no nationality who last habitually resided in Angola) would pose a serious threat to their personal safety;

(2) There exists extraordinary and temporary conditions in Angola that prevent aliens who are nationals of Angola (and aliens having no nationality who last habitually resided in Angola) from returning to Angola in safety; and

(3) Permitting nationals of Angola (and aliens having no nationality who last habitually resided in Angola) to remain temporarily in the United States is not contrary to the national interest of the United States. 8 U.S.C. 1254a(b)(1)(A) and (C).

Accordingly, I order as follows:

(1) The designation of Angola is extended for the 12-month period spanning from March 29, 2001, to March 29, 2002. 8 U.S.C. 1254a(b)(3)(A) and (C). Nationals of Angola (and aliens having no nationality who last habitually resided in Angola) who received TPS during the initial designation period may apply for an extension of TPS during the 30-day reregistration period from April 5, 2001 until May 7, 2001.

(2) Angola is redesignated for TPS for the period effective April 5, 2001 and ending March 29, 2002. 8 U.S.C. 1254a(b)(2). Nationals of Angola (and aliens having no nationality who last habitually resided in Angola) who have been “continuously physically present” and have “continuously resided” in the United States before or on April 5, 2001, may apply for TPS within the registration period, which begins April 5, 2001 and ends on March 29, 2002 (inclusive of such end date).

(3) I estimated that there are approximately 3,372 nationals of Angola (and aliens who have no nationality and who last habitually resided in Angola) who were granted TPS and are eligible for reregistration, and no more than 3,300 nationals of Angola (and aliens who have no nationality and who last habitually resided in Angola) who are not currently registered for TPS, but who are eligible for TPS under this redesignation.

(4) To maintain TPS, a national of Angola (or an alien having no nationality who last habitually resided in Angola) who is currently registered for TPS must reregister by filing Form I-821, together with Form I-765, within the period beginning April 5, 2001 and ending on May 7, 2001 (inclusive of such end date). There is no fee for a Form I-821 filed as part of the reregistration application. A Form I-765 must be filed with the Form I-821. If the applicant requests employment authorization, he or she must submit one hundred dollars ($100) or a properly documented fee waiver request, pursuant to 8 CFR 244.20, with the Form I-765. An applicant who does not request employment authorization must nonetheless file a Form I-765 along with the Form I-821, but is not required to submit the fee.

(5) A national of Angola (or an alien having no nationality who last habitually resided in Angola) applying for TPS under the redesignation must file a Form I-821, together with the Form I-765, within the period beginning April 5, 2001, and ending on March 29, 2002. A fifty-dollar ($50) fee must accompany the Form I-821. If the applicant requests employment authorization, he or she must submit a one hundred dollar ($100) fee with the Form I-765, A twenty-five dollar ($25) fingerprinting fee must also be submitted for every applicant who is 14 years of age or older. An applicant who does not request employment authorization must nonetheless file a Form I-765 along with the Form I-821, but is not required to submit the $100 fee for the Form I-765. The applicant may request (a) fee waiver(s) in accordance with 8 CFR 244.20.

(6) Pursuant to section 244(b)(3)(A) of the Act, I will review, at least 60 days before March 29, 2002, the designation of Angola under the TPS program to determine whether the conditions for designation continue to be met.

(7) Information concerning the extension and redesignation of Angola under the TPS program will be available at local Service offices upon publication of this notice.

Dated: March 30, 2001.
John Ashcroft,
Attorney General.

[FR Doc. 01-8422 Filed 4-4-01; 8:45 am]

BILLING CODE 4410-10-M